DEPARTMENT OF ENERGY

Federal Energy Regulatory Commission

Combined Notice of Filings #1

September 5, 2007.

Take notice that the Commission has received the following Natural Gas Pipeline Rate and Refund Report filings:

Docket Numbers: RP07-574-001.

Applicants: Northern Natural Gas Company.

Description: Northern Natural Gas Company submits Substitute Fourth Revised Sheet 263G to FERC Gas Tariff, Fifth Revised Volume 1, effective 11/1/07.

Filed Date: 08/31/2007.

Accession Number: 20070904-0301.

Comment Date: 5 p.m. Eastern Time on Wednesday, September 12, 2007.

Docket Numbers: RP07-606-001.

Applicants: Questar Pipeline Company.

Description: Questar Pipeline Company resubmits its Fifth Revised Sheet 171, et al. to FERC Gas Tariff, First Revised Volume 1-A.

Filed Date: 08/31/2007.

Accession Number: 20070904-0303.

Comment Date: 5 p.m. Eastern Time on Wednesday, September 12, 2007.

Docket Numbers: RP07-666-000.

Applicants: Colorado Interstate Gas Company.

Description: Colorado Interstate Gas Company submits First Revised Sheet 380K, et al. to FERC Gas Tariff, First Revised Volume 1, to become effective 10/1/07.

Filed Date: 08/31/2007.

Accession Number: 20070904-0304.

Comment Date: 5 p.m. Eastern Time on Wednesday, September 12, 2007.

Docket Numbers: RP07-667-000.

Applicants: Colorado Interstate Gas Company.

Description: Colorado Interstate Gas Company submits Third Revised Sheet 229A.01 to its FERC Gas Tariff, First Revised Volume 1, effective 10/1/07.

Filed Date: 08/31/2007.

Accession Number: 20070904-0305.

Comment Date: 5 p.m. Eastern Time on Wednesday, September 12, 2007.

Docket Numbers: RP07-668-000.

Applicants: Colorado Interstate Gas Company.

Description: Colorado Interstate Gas Company submits Forty-Seventh Revised Sheet 11A, et al. to FERC Gas Tariff, First Revised Volume 1, to effective 10/1/07.

Filed Date: 08/31/2007.

Accession Number: 20070904-0306.

Comment Date: 5 p.m. Eastern Time on Wednesday, September 12, 2007.

Docket Numbers: RP07-670-000.

Applicants: Trunkline Gas Company, LLC.

Description: Trunkline Gas Company, LLC submits First Revised Sheet 0, et al. to FERC Gas Tariff, Third Revised Volume 1, effective 10/1/07.

Filed Date: 08/31/2007.

Accession Number: 20070904-0308.

Comment Date: 5 p.m. Eastern Time on Wednesday, September 12, 2007.

Docket Numbers: RP07-671-000.

Applicants: Dauphin Island Gathering Partners.

Description: Dauphin Island Gathering Partners submits Sixth Revised Sheet 7, et al. to FERC Gas Tariff, First Revised Volume 1, to be effective 10/1/07.

Filed Date: 08/31/2007.

Accession Number: 20070904-0309.

Comment Date: 5 p.m. Eastern Time on Wednesday, September 12, 2007.

Docket Numbers: RP07-672-000.

Applicants: Eastern Shore Natural Gas Company.

Description: Eastern Shore Natural Gas Company submits Nineteenth Revised Sheet 4, et al. to FERC Gas Tariff, Second Revised Volume 1, effective 10/1/07.

Filed Date: 08/31/2007.

Accession Number: 20070904-0310.

Comment Date: 5 p.m. Eastern Time on Wednesday, September 12, 2007.

Docket Numbers: RP07-673-000.

Applicants: National Fuel Gas Supply Corporation.

Description: National Fuel Gas Supply Corp submits its Thirty First Revised Sheet 8, et al. to FERC Gas Tariff, Fourth Revised Volume 1.

Filed Date: 08/31/2007.

Accession Number: 20070904-0311.

Comment Date: 5 p.m. Eastern Time on Wednesday, September 12, 2007.

Docket Numbers: RP07-674-000.

Applicants: Panhandle Eastern Pipe Line Company, LP.

Description: Panhandle Eastern Pipe Line Co, LP submits its Fifteenth Revised Sheet 4, et al. to its FERC Gas Tariff, Third Revised Volume 1.

Filed Date: 08/31/2007.

Accession Number: 20070904-0312.

Comment Date: 5 p.m. Eastern Time on Wednesday, September 12, 2007.

Docket Numbers: RP07-675-000.

Applicants: Portland Natural Gas Transmission System.

Description: Portland Natural Gas Transmission System submits its Second Revised Sheet 100, et al. to its FERC Gas Tariff to establish a revised Annual Charge Adjustment charge.

Filed Date: 08/31/2007.

Accession Number: 20070904-0314.

Comment Date: 5 p.m. Eastern Time on Wednesday, September 12, 2007.

Docket Numbers: RP07-676-000.

Applicants: Sea Robin Pipeline Company, LLC.

Description: Sea Robin Pipeline Co, LLC submits its 1st Rev Second Revised Sheet 5, et al. to its FERC Gas Tariff, second revised Volume 1.

Filed Date: 08/31/2007.

Accession Number: 20070904-0313.

Comment Date: 5 p.m. Eastern Time on Wednesday, September 12, 2007.

Docket Numbers: RP07-677-000.

Applicants: Southern LNG, Inc.

Description: Southern LNG, Inc submits its Eighteenth Revised Sheet 5, et al. to its FERC Gas Tariff, Original Volume 1.

Filed Date: 08/31/2007.

Accession Number: 20070904-0315.

Comment Date: 5 p.m. Eastern Time on Wednesday, September 12, 2007.

Docket Numbers: RP07-678-000.

Applicants: Southern Natural Gas Company.

Description: Southern Natural Gas Co submits its Sixty-Eighth Revised Sheet 14, et al. to its FERC Gas Tariff, Seventh Revised Volume 1.

Filed Date: 08/31/2007.

Accession Number: 20070904-0316.

Comment Date: 5 p.m. Eastern Time on Wednesday, September 12, 2007.

Docket Numbers: RP07-679-000.

Applicants: Southwest Gas Storage Company.

Description: Southern Gas Storage Co submits its 1st Rev Nineteenth Revised Sheet 5, et al. to its FERC Gas Tariff, First Revised Volume 1.

Filed Date: 08/31/2007.

Accession Number: 20070904-0317.

Comment Date: 5 p.m. Eastern Time on Wednesday, September 12, 2007.

Docket Numbers: RP07-680-000.

Applicants: Trunkline Gas Company, LLC.

Description: Trunkline Gas Co, LLC submits its Fourteenth Revised Sheet 10, et al. to its FERC Gas Tariff, Third Revised Volume 1.

Filed Date: 08/31/2007.

Accession Number: 20070904-0318.

Comment Date: 5 p.m. Eastern Time on Wednesday, September 12, 2007.

Docket Numbers: RP07-681-000.

Applicants: Trunkline LNG Company, LLC.

Description: Trunkline LNG Co, LLC submits its Thirteenth Revised Sheet 5, et al. to its FERC Gas Tariff, Original Volume 1-A.

Filed Date: 08/31/2007.

Accession Number: 20070904-0319.

Comment Date: 5 p.m. Eastern Time on Wednesday, September 12, 2007.

Docket Numbers: RP07-682-000.

Applicants: Panhandle Eastern Pipe Line Company, LP.

Description: Panhandle Eastern Pipe Line Co, LP submits its First Revised Sheet 215, et al. to its FERC Gas Tariff, Third Volume 1.

Filed Date: 08/31/2007.

Accession Number: 20070904-0320.

Comment Date: 5 p.m. Eastern Time on Wednesday, September 12, 2007.

Docket Numbers: RP07-683-000.

Applicants: Sea Robin Pipeline Company, LLC.

Description: Sea Robin Pipeline Co, LLC submits its First Revised Sheet 0, et al. to its FERC Gas Tariff, Second Revised Volume 1.

Filed Date: 08/31/2007.

Accession Number: 20070904-0321.

Comment Date: 5 p.m. Eastern Time on Wednesday, September 12, 2007.

Docket Numbers: RP07-684-000.

Applicants: Southwest Gas Storage Company.

Description: Southwest Gas Storage Co submits its Second Revised Sheet 0, et al. to its FERC Gas Tariff, First Revised Volume 1.

Filed Date: 08/31/2007.

Accession Number: 20070904-0322.

Comment Date: 5 p.m. Eastern Time on Wednesday, September 12, 2007.

Docket Numbers: RP07-685-000.

Applicants: Trunkline LNG Company, LLC.

Description: Trunkline LNG Co, LLC submits its Second Revised Sheet 171, et al. to its FERC Gas Tariff, Second Volume 1-A.

Filed Date: 08/31/2007.

Accession Number: 20070904-0323.

Comment Date: 5 p.m. Eastern Time on Wednesday, September 12, 2007.

Docket Numbers: RP96-312-166.

Applicants: Tennessee Gas Pipeline Company.

Description: Tennessee Gas Pipeline Company submits Gas Transportation Agreement with PSEG Energy Resources and Trade, LLC etc.

Filed Date: 08/31/2007.

Accession Number: 20070904-0302.

Comment Date: 5 p.m. Eastern Time on Wednesday, September 12, 2007.

Docket Numbers: RP97-81-041.

Applicants: Kinder Morgan Interstate Gas Trans, LLC.

Description: Kinder Morgan Interstate Gas Transmission, LLC submits Sixteenth Revised Sheet 4G.01, et al. to its FERC Gas Tariff, Fourth Revised Volume 1-A, effective 9/1/07.

Filed Date: 08/31/2007.

Accession Number: 20070831-0085.

Comment Date: 5 p.m. Eastern Time on Wednesday, September 12, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Acting Deputy Secretary.

[FR Doc. E7-17914 Filed 9-11-07; 8:45 am]

BILLING CODE 6717-01-P